DEPARTMENT OF HOMELAND SECURITY

Coast Guard

[Docket No. USCG-2015-0698]

Merchant Mariner Medical Advisory Committee

AGENCY: Department of Homeland Security, Coast Guard.

ACTION: Notice of Federal Advisory Committee meeting.

SUMMARY: The Merchant Mariner Medical Advisory Committee will meet to discuss matters relating to medical certification determinations for issuance of licenses, certificates of registry, merchant mariners' documents, medical standards and guidelines for the physical qualifications of operators of commercial vessels, medical examiner education, and medical research. The meeting will be open to the public.

DATES: The Merchant Mariner Medical Advisory Committee is scheduled to meet on Monday, September 28 and Tuesday, September 29, 2015, from 8 a.m. to 5:15 p.m. and 8 a.m. to 5:00 p.m. respectively. Please note that the meeting may close early if the committee has completed its business. All submitted written materials, comments, and requests to make oral presentations at the meeting should reach Lieutenant Ashley Holm, Alternate Designated Federal Officer for the Merchant Mariner Medical Advisory Committee, no later than September 21, 2015. For contact information, please see the FOR FURTHER INFORMATION CONTACT section below. Any written material submitted by the public both before and after the meeting will be distributed to the Merchant Mariner Medical Advisory Committee and become part of the public record.

ADDRESSES: The meeting will be held at the Texas A&M Maritime Academy, Mary Moody Northen Banquet Room, 200 Seawolf Parkway, Galveston, TX 77554 (http://www.tamug.edu/corps/index.html). For further information about the meeting facilities, please contact Ms. Kathey Walker at (409) 740-4408.

For information on services for individuals with disabilities or to request special assistance at the meeting, contact the individual listed in the FOR FURTHER INFORMATION CONTACT section as soon as possible. For planning purposes, please notify the Merchant Mariner Medical Advisory Committee Alternate Designated Federal Officer of your attendance as soon as possible.

To facilitate public participation, we are inviting public comment on the issues to be considered by the committee as listed in the “Agenda” section below. Written comments must be submitted no later than September 21, 2015, in order for committee members to review comments before the meeting, and must be identified by docket number USCG-2015-0698 and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2011-0138 in the “SEARCH” box, press Enter and then click on the item you wish to view.

A public comment period will be held on September 28, 2015, from approximately 11:30 a.m.-12:00 p.m. and September 29, 2015 from approximately 2:15 p.m.-2:45 p.m. Speakers are requested to limit their comments to 5 minutes. Please note that the public comment period may end before the time indicated, following the last call for comments. Additionally, public comment will be sought throughout the meeting as specific issues are discussed by the committee. Contact Lieutenant Ashley Holm as indicated below to register as a speaker.

FOR FURTHER INFORMATION CONTACT: Lieutenant Ashley Holm, Alternate Designated Federal Officer for the Merchant Mariner Medical Advisory Committee, at telephone 202-372-1128 or email Ashley.e.holm@uscg.mil. If you have any questions on viewing or submitting material to the docket, call Cheryl Collins, Program Manager, Docket Operations, telephone 202-366-9826 or 1-800-647-5527.

SUPPLEMENTARY INFORMATION: Notice of this meeting is given under the Federal Advisory Committee Act, 5 United States Code Appendix. The Merchant Mariner Medical Advisory Committee Meeting is authorized by 46 United States Code 7115 and advises the Secretary on matters related to (a) medical certification determinations for issuance of licenses, certificates of registry, and merchant mariners' documents; (b) medical standards and guidelines for the physical qualifications of operators of commercial vessels; (c) medical examiner education; and (d) medical research.

A copy of all meeting documentation is available at https://homeport.uscg.mil by using these key strokes: Missions; Port and Waterways; Safety Advisory Committees; MEDMAC and then use the announcements key. Alternatively, you may contact Lieutenant Ashley Holm as noted in the FOR FURTHER INFORMATION CONTACT section above.

Agenda

Day 1

The agenda for the September 28, 2015 meeting is as follows:

(1) Opening remarks from Texas A&M leadership.

(2) Opening remarks from Coast Guard leadership.

(3) Opening remarks from the Designated Federal Officer.

(4) Roll call of committee members and determination of a quorum.

(5) Review of last full committee meeting's minutes.

(6) Introduction of new task(s).

(7) Presentation on Merchant Mariner Fitness for Duty.

(8) Public comments.

(9) Presentation on Infectious Diseases.

(10) Working Groups addressing the following task statements may meet to deliberate—

(a) Task Statement 13, Mariner Occupational Health Risk Analysis. This is a joint task statement with the Merchant Marine Personnel Advisory Committee.

(b) The Committee will receive new task statements from the Coast Guard, review the information presented on each issue, deliberate and formulate recommendations for the Department's consideration.

(8) Adjournment of meeting.

Day 2

The agenda for the September 29, 2015 meeting is as follows:

(1) Continue work on Task Statements.

(2) Public comments.

(3) By mid-afternoon, the Working Groups will report, and if applicable, make recommendations for the full committee to consider for presentation to the Coast Guard. The committee may vote on the working group's recommendations on this date. The public will have an opportunity to speak after each Working Group's Report before the full committee takes any action on each report.

(4) Closing remarks/plans for next meeting.

(5) Adjournment of Meeting.

Dated: August 14, 2015.
V.B. Gifford,
Captain, U.S. Coast Guard, Director of Inspections and Compliance.

[FR Doc. 2015-20681 Filed 8-20-15; 8:45 am]

BILLING CODE 9110-04-P